ENVIRONMENTAL PROTECTION AGENCY

40 CFR Part 271

[FRL-7597-5]

Louisiana: Final Authorization of State Hazardous Waste Management Program Revisions

AGENCY: Environmental Protection Agency (EPA).

ACTION: Immediate final rule.

SUMMARY: The State of Louisiana has applied for final authorization of revisions to its Hazardous Waste Program under the Resource Conservation and Recovery Act (RCRA), Clusters X, XI and XII which contain Federal rules promulgated from July 1, 1999, to June 30, 2002. The EPA has determined that these revisions satisfy the requirements needed to qualify for final authorization, and is authorizing the State's revisions through this immediate final action. The EPA is publishing this rule to authorize the revisions without a prior proposal because we believe this action is not controversial and do not expect adverse comments. We note that a petition to withdraw the State of Louisiana's authorization to operate its RCRA program dated March 13, 2002 has been filed by Concerned Citizens of New Sarpy and Louisiana Bucket Brigade. Currently, we are in the final stages of review of the allegations contained in the petition. As such, the Region is not yet in a position to determine the outcome of the petition at this time. EPA is continuing to review the Petition and will take whatever action is deemed necessary as a result of its investigation of the allegations contained in the petition. The approval of this revision to the State's authorized program is a completely separate and unrelated action to EPA's review of the petition. Under RCRA Section 3006(b), 42 U.S.C. 6926(b), States must maintain a hazardous waste program that is equivalent to, consistent with, and no less stringent than the Federal Hazardous Waste Program. As the Federal program changes, States must change their programs and ask EPA to authorize the changes. Since there were modifications made to the federal program, the changes to Louisiana's RCRA program are necessary. In most circumstances, the Federal Rules require the authorized State's program be revised within one year of the Federal modification. Therefore, EPA does not believe that action on this revision to Louisiana's program should be delayed.

Unless we get adverse comments which oppose this authorization during the comment period, the decision to authorize the State of Louisiana Department of Environmental Quality (LDEQ) revisions to their hazardous waste program will take effect. If adverse comments are received, the EPA will publish a document in the Federal Register (FR) either: A withdrawal of the immediate final decisions (and the proposed rule published elsewhere in this issue of the Federal Register will serve as a proposal to authorize the changes), or a document containing a response to comments and which either affirms that the immediate final decision takes effect or reverses the decision.

DATES: This immediate final rule is effective February 9, 2004 unless EPA receives adverse written comments by January 8, 2004. Should EPA receive such comments, it will publish a timely document either: Withdrawing the immediate final publication or affirming the publication and responding to comments.

ADDRESSES: Written comments, referring to Docket Number LA-01-03 should be sent to Alima Patterson, Region 6, Regional Authorization Coordinator, State/Tribal Oversight Section (6PD-O), Multimedia Planning and Permitting Division, EPA Region 6, 1445 Ross Avenue, Dallas, Texas 75202-2733. You may submit your comments electronically to Patterson.alima@epa.gov. Copies of the Louisiana program revision application and the materials which EPA used in evaluating the revision are available for inspection and copying from 8:30 a.m. to 4 p.m. Monday through Friday, at the following addresses: Louisiana Department of Environmental Quality, 602 N. Fifth Street, Baton Rouge, Louisiana 70884-2178, (225) 219-3559 and EPA, Region 6, 1445 Ross Avenue, Dallas, Texas 75202-2733, phone number (214) 665-8533.

FOR FURTHER INFORMATION CONTACT: Alima Patterson, (214) 665-8533.

SUPPLEMENTARY INFORMATION:

A. Why Are Revisions to State Programs Necessary?

States that receive final authorization from EPA under RCRA Section 3006(b), 42 U.S.C. 6926(b), must maintain a hazardous waste program that is equivalent to, consistent with, and no less stringent than the Federal Hazardous Waste Program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260-266, 268, 270, 273, and 279.

B. What Is the Effect of Today's Authorization Decision?

The effect of this decision is that a facility in Louisiana subject to RCRA will now have to comply with the authorized State requirements instead of the equivalent Federal requirements in order to comply with RCRA. Louisiana has enforcement responsibilities under its State hazardous waste program for violations of such program, but EPA retains its authority under RCRA sections 3007, 3008, 3013, and 7003, which include, among others, authority to: (1) Do inspections, and require monitoring, tests, analyses or reports, (2) enforce RCRA requirements and suspend or revoke permits and (3) take enforcement actions after notice to, and consultation with the State. This action does not impose additional requirements on the regulated community because the regulations for which Louisiana is being authorized by today's action are already effective, and are not changed by today's action.

C. What Is the History of Louisiana's Final Authorization and Its Revisions?

The State of Louisiana initially received final authorization on February 7, 1985 (50 FR 3348), to implement its base Hazardous Waste Management Program. Since the Base Program authorization, the following are publication dates for the State of Louisiana's program revisions: November 28, 1989 (54 FR 48889) effective January 29, 1990; August 26, 1991 (56 FR 41958) effective August 26, 1991; November 7, 1994 (59 FR 55368) effective January 23, 1995; December 23, 1994 (59 FR 66200) effective March 8, 1995; there were technical corrections made on January 23, 1995 (60 FR 4380), effective January 23, 1995; and another technical correction was made on April 11, 1995 (60 FR 18360) effective April 11, 1995. We authorized the following additional revisions: October 17, 1995 (60 FR 53704) effective January 2, 1996; March 28, 1996 (61 FR 13777) effective June 11, 1996; December 29, 1997 (62 FR 67572) effective March 16, 1998; October 23, 1998 (63 FR 56830) effective December 22, 1998; August 25, 1999 (64 FR 46302) effective October 25, 1999 ; September 2, 1999 (64 FR 48099) effective November 1, 1999; February 28, 2000 (65 FR 10411) effective April 28, 2000 and January 2, 2001 (66 FR 23) effective March 5, 2001. On October 23, 2001, April 4, 2003, and June 9, 2003, Louisiana applied for approval of its program revisions for RCRA Clusters X, XI and XII. In this application, Louisiana is seeking approval of RCRA Clusters X, XI and XII in accordance with 40 CFR 271.21(b)(3).

Since 1979, the State of Louisiana, through the Louisiana Department of Natural Resources, has conducted a program designed to regulate those who generate, transport, treat, store, dispose of or recycle hazardous waste. During the 1983 Regular Session of the Louisiana Legislature, Act 97, the Environmental Affairs Act, was adopted. This Act amended and reenacted Louisiana Revised Statutes (LRS) 30:1051 et seq. and also created the Louisiana Department of Environmental Quality (LDEQ). During the 1999 Regular Session of Louisiana Legislature, Act 303 revised the LRS 30:2011 et seq., allowing LDEQ to re-engineer itself to perform more efficiently and to meet its strategic goals.

Act 97 transferred the duties and previously delegated responsibilities of the Department of Natural Resources, Office of Environmental Affairs, to LDEQ. The LDEQ and the Department of Natural Resources, Office of Conservation, has a memorandum of understanding that outlines the protocol for activities associated with the exploration, development, or production of oil, gas, or geothermal resources. The LDEQ has lead agency jurisdictional authority for administering the RCRA Subtitle C program in Louisiana. The LDEQ is designated to facilitate communication between the EPA and the State.

The State law governing the generation, transportation, treatment, storage and disposal of hazardous waste can be found in LRS 30:2171-2205. This part may be cited as the “Louisiana Hazardous Waste Control Law.” The laws governing hazardous waste should be viewed as part of a larger framework of environmental laws specified in Title 30, Subtitle II Louisiana Revised Statutes. The State of Louisiana adopted the Federal regulations for Cluster X , XI and XII promulgated from July 1, 1999 through June 30, 2002, and the State's regulations which became effective May 20, 1997, June 20, 1998, September 20, 1998, March 20, 1999, August 20, 1999, March 20, 2001, April 20, 2001, July 20, 2001, and March 20, 2003.

State Initiated Changes

The State has made amendments to the provisions listed in the table which follows. These amendments correct typographical and/or printing errors, clarify and make the State's regulations more internally consistent. The State's laws and regulations, as amended by these provisions, provide authority which remains equivalent to and no less stringent than the Federal laws and regulations. These State initiated changes are submitted under the requirements of 40 CFR 271.21(a).

Manifest Rule Changes
State citation | Federal citation | Result of re-promulgated rule (amended/effective date January 20, 2001)
903 | n/a | repealed.
905.A.4 | 264.71(a) | from more stringent to equivalent.
905.A.5 | 264.71(a)(5) | from more stringent to equivalent.
905.D | 264.71(d) | changed the offices to reflect the re-engineered offices.
907.B | 264.72(b) | from more stringent to equivalent.
913 | n/a | repealed.
915 | n/a | repealed.
917 | n/a | repealed.
919 | n/a | repealed.
1107.A.8 | n/a | reserved.
1107.C | 262.22 | copies of manifest will no longer be sent to the State.
111.C.1 | n/a | Reserved .
Chapter 11. Appendix A |  | Appendix to Part 262 equivalent.
1309.F | n/a | deleted.
1309.G | n/a | deleted.

D. What Changes Are We Authorizing With Today's Action?

Louisiana applied for final approval of its revision to its hazardous waste program in accordance with 40 CFR 271.21. Louisiana's revisions consist of regulations which specifically govern RCRA Clusters X, XI and XII rules. Louisiana requirements are included in a chart with this document. The EPA is now making a final decision, subject to receipt of written adverse comments that oppose this action, that Louisiana's hazardous waste program revision satisfies the requirements necessary to qualify for final authorization. Therefore, we grant Louisiana final authorization for the following program revisions:

Federal citation | State analog
1. Clarification of Standards for Hazardous Waste LDR Treatment Variances, [62 FR 64504] December 5, 1997. (Checklist 162) | Louisiana Revised States (LRS) 30: Section 2180 et seq., as amended May 7, 1996, effective May 7, 1996; Louisiana Hazardous Waste Regulations (LHWR) Sections 2231.C, 2231.D and 2231.G, as amended July 20, 2001, effective July 20, 2001.
2. Land Disposal Restrictions Phase IV—Final Rule Promulgating Treatment Standard for Metal Wastes and Mineral Processing Wastes; Mineral Processing Secondary Material and Bevill Exclusion Issues; Treatment Standards for Hazardous Soils, and Exclusion of Recycled Wood Preserving Wastewaters, [63 FR 28556] May 26, 1998. (Checklist 167 B) | LRS:30:2180 et seq., as amended May 7, 1996, effective May 7, 1996; LHWR Sections 1109.E.1.e, 2223.J, 2236.C.1.a-b, 2245.C.3, Chapter 22. Table 2, and Chapter 49. Table 2, as amended March 20, 2001, effective March 20, 2001; 2223.J, as amended March 20, 1999, effective March 20, 1999; 2231.C-D and 221.G, as amended July 20, 2001, effective July 20, 2001.
3. Hazardous Waste Management System; Modification of the Hazardous Waste Program; Hazardous Waste Lamps, [64 FR 36466] July 6, 1999. (Checklist 181) | LRS:30:2180 et seq., as amended May 7, 1996, effective May 7, 1996; LHWR Sections 105.D.7, 105.D.7.c-d, 305.C.11.b-d, 1501.C.11.b-d, 2201.1.I.5.b-d, 3801.A as amended September 20, 1998, effective September 20, 1998; 3801.B, as amended June 20, 1998, effective June 20, 1998; 3801.C-D, as amended April 20, 2001, effective April 20, 2001; 3803.A.1, 3803.B.2, 3803.B.3, 3805.A, 3807.A, as amended May 20, 1997, effective May 20, 1997; 3809.A, as amended June 20, 1998, effective June 20, 1998, 3809.B, as amended September 20, 1998, effective September 20, 1998, 3809.B.1-2, as amended March 20, 2001, 3809.C, as amended September 20, 198, effective September 20, 1998; 3809.C.1, as amended March 2001, effective March 20, 2001; 3809.C.2, as amended September 20, 1998, effective September 20, 1998; 3813.Definition—Lamps, as amended March 20, 2001, effective March 20, 2001; 3813.Definition—Large Quantity Handler of Universal Waste, as amended September 20, 1998, effective September 20, 1998 and 3813.Definition of small Quantity Handler; May 20, 1997, effective May 20, 1997; 3821.D, 3821.D.1, 3821.D.2, 3823.A.5, 3837, as amended March 20, 2001, effective March 20, 2001; 3813.Definitions—Universal Waste, as amended September 20, 1998, effective September 20, 1998; 3815.B, as amended May 20, 1997, effective May 20, 1997; 3821.D, 3821.D.1-2, and 3823.A.5, as amended March 20, 2001, effective March 20, 2001; 3837, as amended May 20, 1997, effective May 20, 1997, 3841.B.4, 3841.B.5, as amended September 20, 1998, effective September 20, 1998; 3843.D, 3843.D.1-2, 3845.A.5, as amended March 20, 2001, effective March 20, 2001; 3859, 3873.A, as amended May 20, 1997, effective May 20, 1997; 3883.A.1, as amended February 20, 1998, effective February 20, 1998; 4301.C.13.b-c, as amended March 20, 1999, effective March 20, 1999; and 4301.C.13.d, as amended August 20, 1999, effective August 20, 1999.
4. NESHAPS: Final Standards for Hazardous Air Pollutants for Hazardous Waste Combusters, [64 FR 52828; 64 FR 63209] September 30, 1999; and November 19, 1999. (Checklist 182) | LRS:30:2180 et seq., as amended May 7, 1996, effective May 7, 1996; LHWR Sections 109 Definitions—Dioxins and furans (D/F), 109 Definitions—TEQ, 332.B.8, 322.L.9, 529.Intro, 529.F, 525.G, 537.D, 3001.B, 3001.B.1-2, 3001.B.2.a-d, 3001.C-D, 3001.D.1, 3001.D.1.a-D.2-3, 3001.D.3.a-D,3.b, 3001.E-G, 3001.H, 3003.C, 3003.C.1, 3011.C, 3011.C.1-3, 3011.D, 3025.B.1, 3025.B.2.a, 3025.B.2.a.Note, Chapter 30 Appendix H, 3105.B, 3105.B.1-2, 3105.C-E, 3115.E, 3203.Intro, 4513.B, 4513.B.1, 4513.B.2, 4513.C, and Chapter 49.Table 7, as amended March 20, 2001, effective March 20, 2001.
5. Land Disposal Restrictions Phase IV: Final Rule Promulgating Treatment Standards for Metal Wastes and Mineral Processing Wastes; Mineral Processing Secondary Materials and Bevill Exclusion Issues; Treatment Standards for Hazardous Soils, and Exclusion of Recycled Wood Preserving Wastewaters, [64 FR 56469] October 20, 1999. (Checklist 183) | LRS:30:2180 et seq., as amended May 7, 1996, effective May 7, 1996; LHWR Sections 1109.E.1.e, 2214, as amended March 20, 2001, effective March 20, 2001; 2223.J, as amended March 20, 1999, effective March 20, 1999; 2236.C.1.a-b, 2245.C.3, Chapter 22 Table 2, Chapter 22.Table 7, Chapter 31.Table 1, Chapter 49.Table 4, Chapter 49.Table 6 and Chapter 49.Table 2, as amended March 20, 2001, effective March 20, 2001.
6. Waste Water Treatment Sludges From the Metal Finishing Industry; 180-day Accumulation Time, [65 FR 12378] March 8, 2000. (Checklist 184) | LRS 30:2180 et seq., as amended May 7, 1996, effective May 7, 1996; LHWR Sections 1109.E.1.e, as amended March 20, 2001, effective March 20, 2001, 1109.E.10, 1109.E.10.a-d, 1109.E.10.d.i(a)-(c), 1109.E.10.d.i(c).(i) and (ii), 1109.E.10.d.ii-v, 1109.E.11 and 1109.E.12, as amended July 20, 2001, effective July 20, 2001.
7. Organobromine Production Wastes; Identification and Listing of Hazardous Waste; Land Disposal Restrictions; Listing of CERCLA Hazardous Substances, Reportable Quantities; Final Rule, [65 FR 14472] March 17, 2000. (Checklist 185) | LRS:30.2180 et seq., as amended May 7, 1996, effective May 7, 1996; LHWR Sections 1109.E.1.e, as amended March 20, 2001, effective March 20, 2001; 2223.J, as amended March 20, 1999, effective March 20, 1999; 2236.C.1.a-b, 2245.C.3, Chapter 22 Table 2, Chapter 49.Table 2, 2214, Chapter 22.Table 2, Chapter 22.Table 7, Chapter 31.Table 1, Chapter 49.Table 2, Chapter 49.Table 4, and Chapter 49.Table 6, as amended March 20, 2001, effective March 20, 2001.
8. Organobromines Production Wastes; Petroleum Refining Wastes; Identification and Listing of Hazardous Waste; Land Disposal Restrictions, Final Rule and Correcting Amendments, [64 FR 36365] June 8, 2000. (Checklist 187) | LRS:30.:2180 et seq., as amended May 7, 1996, effective May 7, 1996; LHWR Section Chapter 49.Table 1, as amended March 20, 1999, effective March 20, 1999.
9. NESHAPS: Final Standards for Hazardous Air Pollutants for Hazardous Waste Combustor, [65 FR 42292] July 10, 2000. (Checklist 188) | LRS:30.:2180 et seq., as amended through 2001 Regular Legislative Session; Louisiana Hazardous Waste Regulations (LHWR) Sections 4909.D.2.d, 3105.B.1, 3105.B.3, 321.C.10.a, as amended March 20, 2003, effective March 20, 2003.
10. NESHAPS: Second Technical Correction Vacatur, [66 FR 27270] May 14, 2001. (Checklist 188.1) | LRS:30.:2180 et seq., as amended through 2001 Regular Legislative Session; Louisiana Hazardous Waste Regulations (LHWR) Sections 4909.D.2.d, 3105.B.1, 3105.B.3, 321.C.10.a as amended March 20, 2003, effective March 20, 2003.
11. NESHAPS; Final Standards for Hazardous Air Pollutants for Hazardous Waste Combustor: Direct Final Rule [66 FR 35087] July 3, 2001. (Checklist 188.2) | LRS:30.:2180 et seq., as amended through 2001 Regular Legislative Session; Louisiana Hazardous Waste Regulations (LHWR) Sections 4909.D.2.d, 3105.B.1, 3105.B.3, 321.C.10.a as amended March 20, 2003, effective March 20, 2003.
12. Chlorinated Aliphatics Listing and LDRs for Newly Identified Wastes, [65 FR 67068] November 8, 2000. (Checklist 189) | LRS:30:2180 et seq., as amended through 2001 Regular Legislative Session; Louisiana Hazardous Waste Regulations (LHWR) Sections 4901.C Table 2, 4901.G Table 6, 3105 Table 1, Sections 2213.A-B, 2213.B.1-5, 2213.C-D, 2213.D.1, Chapter 22 Table 2, and Chapter 22 Table 7, as amended March 20, 2003, effective March 20, 2003.
13. Land Disposal Restrictions Phase IV—Deferral for PCBs in Soil, [65 FR 8137] December 26, 2000. (Checklist 190) | LRS:30:2180 et seq., as amended through 2001 Regular Legislative Session; Louisiana Hazardous Waste Regulations (LHWR) Sections 2215.A-B, 2215.B.1-4, Chapter 22 Table 7, 2236.D, and 2215 Appendix Table 9 as amended March 20, 2003, effective March 20, 2003.
14. Mixed Waste Rule, [66 FR 27218] May 16, 2001. (Checklist 191) | LRS:30:2180 et seq., as amended through 2001 Regular Legislative Session; Louisiana Hazardous Waste Regulations (LHWR) Sections 4201, 109, 4203, 4205, 4207.A-B, 4207.B.1-5, 4209, 4211.A, 4211.A.1, 4211.A.1.a-c, 4211.A.2, 4211.B, 4213.A, 4213.A.1-2, 4213.A.1-4, 4213.B, 4215.A, 4215.A.1-4, 4215.B, 4217.A-B, 4219.A, 4221.A, 4223.A, 4223.A.1, 4223.A.2, 4225.A-4, 4227, 4229.A, 4231.A, 4231.A.1-4, 4233.A, 4235.A, 4235.A.1-3, 4235.A.3, 4237.A, 4237.B, 4237.B.1-7, 4239.A, 4239.A.1-5, 4241.A.1, 4241.A.1.a-c, 4241.A.2, 4241.B. 4243.A, 4243.A.2, 4243.A.2.a-d, and 4243.B-C, as amended March 20, 2003, effective March 20, 2003.
15. Mixture and Derived-From Rules Revisions, [66 FR 27266] May 16,2001. (Checklist 192 A) | LRS:30:2180 et seq., as amended through 2001 Regular Legislative Session; Louisiana Hazardous Waste Regulations (LHWR) Sections 109.Hazardous Waste.2.c, 109.HW.4.f, and 109 Hazardous Waste.4.g, as amended March 20, 2003, effective March 20, 2003.
16. Land Disposal Restrictions Correction, [66 FR 27266] May 16, 2001. (Checklist 192 B) | LRS:30:2180 et seq., as amended through 2001 Regular Legislative Session; Louisiana Hazardous Waste Regulations (LHWR) Section Chapter 22 Table 11, as amended March 20, 2003, effective March 20, 2003.
17. Change of Official EPA Mailing Address, [66 FR 34374] June 28, 2001. (Checklist 193) | LRS:30:2180 et seq., as amended through 2001 Regular Legislative Session; Louisiana Hazardous Waste Regulations (LHWR) Section 110.A.11, as amended March 20, 2003, effective March 20, 2003.
18. Mixture and Derived-From Rules Revision II, [66 FR 50334] October 3, 2001. (Checklist 194) | LRS:30:2180 et seq., as amended through 2001 Regular Legislative Session; Louisiana Hazardous Waste Regulations (LHWR) Sections 109 Hazardous Waste.2.c-vii and 109 Hazardous Waste.4.f, as amended March 20, 2003, effective March 20, 2003.
19. Inorganic Chemical Manufacturing Waste Identification and Listing, [66 FR 58258]; [67 FR 17119] November 20, 2001; April 9, 2002. (Checklist 195) | LRS:30:2180 et seq., as amended through 2001 Regular Legislative Session; Louisiana Hazardous Waste Regulations (LHWR) Sections 105.D.2.p, 105.D.2.p.i, 105.D.2.p.ii-v, 4901.C.Table 2, 4901.G.Table 6, 2219.A, 2219.B, 2219.B.1-5, 2219.C, and 22 Table 2, as amended March 20, 2003, effective March 20, 2003.
20. Corrective Action Management Units (CAMU), [67 FR 2962) January 22, 2002. (Checklist 196) | LRS:30:2180 et seq., as amended through 2001 Regular Legislative Session; Louisiana Hazardous Waste Regulations (LHWR) Sections 109, 2601.A&B, 2602, 2602.A, 2603.A, 2603.A.1, 2603.A.1.b, 2603.A.1.b.i-ii, 2603.A.1.b-c, 2603.A.3, 2603.A.3.a-d, 2603.A.4-5, 2603.B, 2603.b.1, 2603.B.2, 2603.B.326.3.C, 2603.C.2, 2603.C.4-7, 2603.D. 2603.D.1-3, 2603.E, 2603.E.1-3, 2603.E.3.b, 2603.E.3.b.i-ii, 2603.E.4, 2603.E.4.a, 2603.E.4.a.i, 2603.E.4.a.i(a)-(b), 2603.E.4.a.ii-iii, 2603.E.4.b, 2603.E.4.c-d, 2603.E.4.d.i-ii, 2603.E.4.d.iii-vi, 2603.E.4.e, 2603.E.4.e.i-v, 2603.E.4.e.v(a)-(g), 2603.E.5, 2603.E.5.a-c, 2603.E.6, 2603.E.6, 2603.E.6.a, 2603.E.6.a.i-ii, 2603.E.b, 2603.E.6.b.i-ii, 2603.E.6.c, 2603.E.6.c.i-vi, 2603.E.6.d, 2603.E.6.d.i, 2603.E.6.i.(a)-(e), 2603.E.6.d.ii, 2603.E.6.e, 2603.F, 2603.F.1-2, 2603.F.2.a-b, 2603.G-K, 2605.A, 2607.A, 2607.A,12607.A.2, 2607.A.2.a-c, 2607.A.3, 2607.B-E, 2607.E.1-6, 2607.F and 2607.G, as amended March 20, 2003, effective March 20, 2003.
21. Hazardous Air Pollutant Standards for Combustors; Interim Standards, [67 FR 6792] February 1, 2002. (Checklist 197) | LRS:30:2180 et seq., as amended through 2001 Regular Legislative Session; Louisiana Hazardous Waste Regulations (LHWR) Sections 3105.B.1, 3105.B.4, 3105.B.4.a-b, 4513.B.1, 4513.B.3, 3001B.2.a-d, 529.F, 535.G, 3115.E, 537.D, 2001.A, 2001.A.1, 2001.A.1.a, 2001.A.1.a.i-ii, 2001.A.1.b, 2001A.1.b.i. 2001.A.1.b.i(a)-(b), 2001.A1.b.ii, 2001.A.1.b.ii(a), 2001.A.1.b.ii(b), 2001.A.1.c, 2001.A.1.c.i-ii, 2001.A.2, 2001.A.2.a, 2001.A.2.a.i-ii, 2001.A.2.b. 2001.A.2.b.i(a), 2001.A.2.b.i.(b), 2001.A.2.b.ii, 2001.A.2.b.ii(a), 2001.A.2.b.ii(b), 2001.A.2.c, 2001.A.2.c.i-ii, 2001.B, 2001.B.1, 2001.B.1.a-b, and 2001.B.2, as amended March 20, 2003, effective March 20, 2003.
22. Hazardous Air Pollutant Standards for Combusters; Corrections, [67 FR 6968] February 14, 2002. (Checklist 198) | LRS:30:2180 et seq., as amended through 2001 Regular Legislative Session; Louisiana Hazardous Waste Regulations (LHWR) Sections 3001.A, 3001.B.1, 3001.D.1.a.ii, 3001.D.2.a-b, 3001.D.3, 3001.D.3.a, 3001.D.3.a.iv, and 321.C.10.a, as amended March 20, 2003, effective March 20, 2003.
23. Vacatur of Mineral Processing Spent Materials Being Reclaimed as Solid Wastes and TCLP Use with MGP Waste, [67 FR 11251] March 13, 2002. (Checklist 199) | LRS:30:2180 et seq., as amended through 2001 Regular Legislative Session; Louisiana Hazardous Waste Regulations (LHWR) Sections 109 Solid Waste.3.c, 105.D.1.p, 105.D.1.p.i-iv, 105.D.1.p.iv(a)-(c)(iv), 105.D.1.p.v-vi, and 4903.E.1, as amended March 20, 2003, effective March 20, 2003.

E. What Decision Has EPA Made?

We conclude that Louisiana's application to revise its authorized program meets the statutory and regulatory requirements established by RCRA. Therefore, we grant Louisiana final authorization to incorporate the changes described in the authorization application into its hazardous waste program. Louisiana has responsibility for permitting treatment, storage, and disposal facilities within its borders (except in Indian Country) and for carrying out the aspects of the RCRA program described in its revised program application, subject to the limitations of Hazardous and Solid Waste Amendments of 1984 (HSWA). New Federal requirements and prohibitions imposed by Federal regulations that EPA promulgates under the authority of HSWA take effect in authorized States before they are authorized for the requirements. Thus, EPA will implement those requirements and prohibitions in Louisiana, including issuing permits, until the State is granted authorization to do so.

F. How Do the Revised State Rules Differ From the Federal Rules?

In this authorization of the State of Louisiana's program revisions for RCRA Clusters X, XI and XII, there are no provisions that are more stringent or broader in scope. The State's regulations are equivalent and consistent with the Federal regulations.

G. Who Handles Permits After This Authorization Takes Effect?

The EPA will administer any RCRA permits or portions of permits it has issued to facilities in the State until the State becomes authorized. At the time the State program is authorized for new rules, EPA will transfer all permits or portions of permits issued by EPA to the State. The EPA will not issue any more permits or portions of permits for the provisions listed in this document after the effective date of this authorization. The EPA will continue to implement and issue permits for HSWA requirements for which the State is not yet authorized.

H. Why Wasn't There a Proposed Rule Before Today's Notice?

The EPA is authorizing the State's changes through this immediate final action and is publishing this rule without a prior proposal to authorize the changes because EPA believes it is not controversial and we expect no comments that oppose this action. The EPA is providing an opportunity for public comment now. In addition, in the proposed rules section of today's Federal Register, we are publishing a separate document that proposes to authorize the State changes. If EPA receives comments opposing this authorization, that document will serve as a proposal to authorize the changes. ‘

I. Where Do I Send My Comments and When Are They Due?

You should send written comments to Alima Patterson, Regional Authorization Coordinator, State/Tribal Oversight Section (6PD-O), Multimedia Planning and Permitting Division, EPA Region 6, 1445 Ross Avenue, Dallas, Texas 75202-2733, (214) 665-8533. You may submit comments electronically to Patterson.alima@epa.gov. Please refer to Docket Number LA-01-03. We must receive your comments by January 8, 2004. You may not have an opportunity to comment again. If you want to comment on this action, you must do so at this time.

J. What Happens if EPA Receives Comments Opposing This Action?

If EPA receives comments opposing this action, we will publish a second Federal Register document before the immediate final rule takes effect. The second document may withdraw the immediate final rule before it takes effect and a separate document in the proposed rules section of this Federal Register will serve as a proposal to authorize the changes or the document may identify the issues raised, respond to comments, and affirm that the immediate final rule will take effect February 9, 2004.

K. When Will This Approval Take Effect?

Unless EPA receives comments opposing this action, this final authorization approval will become effective without further notice on February 9, 2004.

L. Where Can I Review the State’s Application?

You can view and copy the State of Louisiana's application from 8:30 a.m. to 4 p.m. Monday through Friday at the following addresses: Louisiana Department of Environmental Quality, 602 N. Fifth Street, Baton Rouge, Louisiana 70884-2178, (225) 219-3559 and EPA, Region 6, 1445 Ross Avenue, Dallas, Texas 75202-2733, (214) 665-6444. For further information contact Alima Patterson, Region 6 Regional Authorization Coordinator, State/Tribal Oversight Section (6PD-O), Multimedia Planning and Permitting Division, EPA Region 6, 1445 Ross Avenue, Dallas, Texas 75202-2733, (214) 665-8533.

M. How Does Today's Action Affect Indian Country in Louisiana?

Louisiana is not authorized to carry out its Hazardous Waste Program in Indian country within the State. This authority remains with EPA. Therefore, this action has no effect on Indian country.

N. What Is Codification?

Codification is the process of placing the State's statutes and regulations that comprise the State's authorized hazardous waste program into the Code of Federal Regulations. The EPA does this by referencing the authorized State rules in 40 Code of Federal Regulations part 272. The EPA reserves the amendment of 40 CFR part 272, subpart T for this codification of Louisiana's program changes until a later date.

Administrative Requirements

The Office of Management and Budget has exempted this action from the requirements of Executive Order 12866 (58 FR 51735, October 4, 1993), and therefore this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Pub. L. 104-4). For the same reason, this action also does not significantly or uniquely affect the communities of Tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355 ) May 22, 2001 because it is not a significant regulatory action under Executive Order 12866. Under RCRA section 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the Attorney General's Supplemental Guidelines for the Evaluation of Risk and Avoidance of Unanticipated Takings issued under the Executive Order.

This rule does not impose an information collection burden under the provisions of the Paperwork Reduction Act of 1995 (44 U.S.C. 3501 et seq.). The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. This action is not a “major rule” as defined by 5 U.S.C. 804(2). This action will be effective on February 9, 2004.

List of Subjects in 40 CFR Part 271

Administrative practice and procedure, Confidential business information, Hazardous materials transportation, Hazardous waste, Indian lands, Intergovernmental relations, Penalties, Reporting and Recordkeeping requirements, Water pollution control, Water supply.

Authority: This notice is issued under the authority of sections 2002(a), 3006, and 7004(b) of the Solid Waste Disposal Act as amended, 42 U.S.C. 6912(a), 6926, 6974(b).

Dated: November 25, 2003.
Richard E. Greene,
Regional Administrator, Region 6.

[FR Doc. 03-30511 Filed 12-8-03; 8:45 am]

BILLING CODE 6560-50-P